DEPARTMENT OF HOMELAND SECURITY

U.S. Customs and Border Protection

Notice of Cancellation of Customs Broker Licenses Due to Death of the License Holder

AGENCY: U.S. Customs and Border Protection, U.S. Department of Homeland Security.

ACTION: General Notice.

SUMMARY: Notice is hereby given that, pursuant to Title 19 of the Code of Federal Regulations at section 111.51(a), the following individual Customs broker licenses and any and all permits have been cancelled due to the death of the broker:

Name | License No. | Port name
David D. Combs | 09873 | Chicago
Ubaldo Diaz | 05914 | New York
Achille D'Anca | 03631 | New York
Brian J. Rodgers | 05462 | New York
Leonard M. Shayne | 02500 | New York
John S. Ross | 02482 | New York
Mary Beth LaPenna | 20824 | New York
Frederick Matalevich | 04360 | New York
Samuel Felicano | 21146 | Miami

Dated: July 25, 2012.
Richard F. DiNucci,
Acting Assistant Commissioner, Office of International Trade.

[FR Doc. 2012-18740 Filed 7-31-12; 8:45 am]

BILLING CODE 9111-14-P